DEPARTMENT OF JUSTICE

Notice of Lodging of Settlement Agreement Pursuant to the Clean Water Act

Notice is hereby given that, on April 16, 2001, a proposed Settlement Agreement in United States v. Arco Pipe Line Company, No. 99 2161 GTV (D. Kan.) (DJ #90-5-1-06347), was lodged with the United States District Court for the District of Kansas.

The proposed Settlement Agreement would resolve the United States' claims against Arco Pipe Line Company, under Section 311 of the Clean Water Act (“CWA”), 33 U.S.C. 1321, for Arco's January 21, 1994, discharge of 3869 barrels of oil into navigable waters of the United States.

Under the proposed settlement, Arco will pay the United States $804,700 in civil penalties for the oil spill. In addition, Arco will spend $145,300 on a Supplemental Environmental Project (“SEP”) consisting of remodeling/reconstructing the concrete drinking water intake for the City of Osawatomie, KS. The settlement also resolves Arco's claims against the United States for costs, expenses and damages incurred as a result of the oil discharge.

The U.S. Department of Justice will receive, for a period of thirty (30) days from the date of publication of this notice, comments relating to the proposed Settlement Agreement. Any comments should be addressed to the Assistant Attorney General for the Environment and Natural Resources Division, U.S. Department of Justice, P.O. Box 7611, Washington, DC 20044-7611, and should reference the following case name and number: United States v. Arco Pipe Line Company, DJ #90-5-1-06347.

The proposed Settlement Agreement may be examined at the offices of EPA Region VII, located at 901 North 5th Street, Kansas City, Kansas 66101, c/o Denise Roberts, (913) 551-7559, or at the U.S. Attorney's Office, 500 State Avenue, Suite 360, Kansas City, Kansas 66101, c/o Robert Olsen, (913) 551-6730. A copy of the proposed Settlement Agreement may also be obtained by mail from the Consent Decree Library, P.O. Box 7611, U.S. Department of Justice, Washington, DC 20044-7611, c/o Peggy Fenlon-Gore, (202) 514-5245. In requesting a copy, please enclose a check in the amount of $13.00 (25 cents per page reproduction cost) payable to the Consent Decree Library.

Robert Maher,
Assistant Chief, Environmental Enforcement Section, Environment and Natural Resources Division.

[FR Doc. 01-11121 Filed 5-2-01; 8:45 am]

BILLING CODE 4410-15-M